DEPARTMENT OF THE INTERIOR

Bureau of Reclamation

[RR83550000, 245R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Morgan Raymond, Reclamation Law Administration Division, Bureau of Reclamation, P.O. Box 25007, Denver, Colorado 80225-0007; mraymond@usbr.gov; telephone 303-445-3382.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

BCP Boulder Canyon Project

Reclamation Bureau of Reclamation

CAP Central Arizona Project

CUP Central Utah Project

CVP Central Valley Project

CRSP Colorado River Storage Project

XM Extraordinary Maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

WIIN Act Water Infrastructure Improvements for the Nation Act

Missouri Basin—Interior Region 5: Bureau of Reclamation, P.O. Box 36900, Federal Building, 2021 4th Avenue North, Billings, Montana 59101, telephone 406-247-7752.

New contract actions:

24. Axtell Ranches, LLC, Boysen Unit, Wyoming: Consideration for renewal of long-term irrigation water service contract No. 049E6A0013.

25. Crow Creek Sioux Tribe, Crow Creek Irrigation Project, P-SMBP, North Dakota: Consideration for renewal of contract for the sale of project use power.

26. City of Dickinson, North Dakota Dickinson Unit, P-SMBP, Eastern Division, North Dakota: Consideration for new long-term M&I water service contract.

Modified contract actions:

9. Garrison Diversion Conservancy District; Garrison Diversion Unit, P-SMBP; North Dakota: Intent to modify repayment contract to add irrigated acres.

Upper Colorado Basin—Interior Region 7: Bureau of Reclamation, 125 South State Street, Room 8100, Salt Lake City, Utah 84138-1102, telephone 801-524-3864.

New contract actions:

42. Albuquerque Bernalillo County Water Utility Authority, San Juan-Chama Project, New Mexico: A two-year extension letter for temporary water storage contract No. 21-WC-40-912 is under review.

43. Middle Rio Grande Conservancy District, Middle Rio Grande Project—El Vado, New Mexico: Negotiations for a 20-year repayment contract for XM work on the El Vado Stilling Basin at El Vado Dam. Funding is provided under Section 40901(2) of the Bipartisan Infrastructure Law of 2021 (Pub. L. 117-58, 135 Stat.429, 43 U.S.C. 3201).

Discontinued contract actions:

20. Moon Lake Water Users Association, Moon Lake Project, Utah: The Association was interested in installing a small hydro-electric generation plant on the outlet works of Moon Lake Dam.

22. Eden Valley IDD, Eden Project, Wyoming: The Eden Valley IDD proposed to raise the level of Big Sandy Dam to fully perfect its water rights.

25. Enchant Energy Corporation, Navajo-Gallup Water Supply Project, New Mexico (Project): Negotiations for a carriage contract with Enchant Energy Corporation pursuant to Public Law 111-11, section 10602(h) which provides conveyance and storage of non-project water through Project facilities and sets forth payment of OM&R costs assignable to Enchant Energy for the use of Project facilities.

34. D. E. Shaw Renewable Investments, Navajo-Gallup Water Supply Project, New Mexico: Reclamation received a request for negotiations for a carriage contract with Shaw pursuant to Public Law 111-11, section 10602(h) which provides conveyance and storage of non-project water through project facilities and sets forth payment of OM&R costs assignable to the Shaw for the use of project facilities.

41. Weber Basin Water Conservancy District, Weber Basin Project, Utah: Contract for the use of return flows from the Weber Basin Project.

Completed contract actions:

5. Pojoaque Valley ID, San Juan-Chama Project, New Mexico: Amendment to the repayment contract to reflect the changed allocations of the Aamodt Litigation Settlement Act (title VI of the Claims Resolution Act of 2010, Public Law 111-291, December 8, 2010, and article 7 of the Settlement Agreement dated April 19, 2012). Completed May 23, 2023.

12. Navajo-Gallup Water Supply Project, New Mexico: Negotiations for an OM&R transfer contract with the Navajo Tribal Utility Authority pursuant to Public Law 111-11, section 10602(f) which transfers responsibilities to carry out the OM&R of transferred works of the Project; ensures the continuation of the intended benefits of the Project; distribution of water; and sets forth the allocation and payment of annual OM&R costs of the Project. Completed June 30, 2022.

24. Public Service Company of New Mexico, Navajo-Gallup Water Supply Project, New Mexico: Negotiations for a carriage contract with Public Service Company of New Mexico pursuant to Public Law 111-11, section 10602(h), which provides conveyance and storage of non-project water through Project facilities and sets forth payment of OM&R costs assignable to the Company for the use of Project facilities. Completed November 7, 2023.

27. Jicarilla Apache Nation, Navajo Project, New Mexico: Water service agreement between the Jicarilla Apache Nation and SIMCOE for delivery of 1,500 acre-feet of M&I water from the Jicarilla's Settlement Water from the Navajo Reservoir Supply. This agreement has a term through December 31, 2026. Completed April 25, 2023.

28. San Juan Water Commission, Public Service Company of New Mexico, and the La Plata Conservancy District; Animas-La Plata Project; New Mexico: Contract for the delivery of 500 acre-feet of M&I water from the Navajo Reservoir supply as supplemented via exchange of Animas-La Plata Project water at the confluence of the San Juan and Animas Rivers. This agreement has a term through December 31, 2032. Completed November 9, 2023.

37. Los Ranchitos Estates, Florida Project, Colorado: Long-term water service contract (25 years) to augment depletions from residential water uses within the subdivision. The contract is for 36 acre-feet of water annually. Completed August 9, 2023.

38. Forrest Groves Estates, Florida Project, Colorado: Long-term water service contract (25 years) to augment depletions from residential water uses within the subdivision. The contract is for 43 acre-feet of water annually. Completed August 9, 2023.

39. Country Aire Estates, Florida Project, Colorado: Long-term water service contract (25 years) to augment depletions from residential water uses within the subdivision. The contract is for 7 acre-feet of water annually. Completed August 9, 2023.

Lower Colorado Basin—Interior Region 8: Bureau of Reclamation, P.O. Box 61470 (Nevada Highway and Park Street), Boulder City, Nevada 89006-1470, telephone 702-293-8192.

New contract actions:

15. Kaman, Inc., Yuma Mesa Division, Gila Project, Arizona: Terminate contract No. 14-06-303-1555 pursuant to Article 13.

16. GM Gabrych Family Limited Partnership, BCP, Arizona: Proposed assignment of Colorado River water delivery contract No. 17-XX-30-W0628 providing for 4,500 acre-feet of Arizona fourth-priority water for irrigation use and proposed assignment of system conservation implementation agreement No. 23-XX-30-W0774 that provides the terms and conditions for creating system conservation water in calendar years 2023, 2024, and 2025 to Matador Farms, LLC.

Columbia-Pacific Northwest—Interior Region 9: Bureau of Reclamation, 1150 North Curtis Road, Suite 100, Boise, Idaho 83706-1234, telephone 208-378-5344.

The Columbia-Pacific Northwest—Interior Region 9 has no updates to report for this quarter.

California-Great Basin—Interior Region 10: Bureau of Reclamation, 2800 Cottage Way, Sacramento, California 95825-1898, telephone 916-978-5250.

New contract actions:

37. CVP, California: Renewal of Memorandums of Understanding with the United States Fish & Wildlife Service, Contracts with California Department of Fish and Wildlife, and Contract with Grasslands Water District for a long term water supply for units of the National Wildlife Refuge System in the Central Valley of California, Gray Lodge, Los Banos, Volta, North Grasslands, and Mendota State Wildlife Areas, and Grasslands Resources Conservation District in the Central Valley of California, respectively.

Completed contract actions:

25. Shasta County Water Agency, CVP, California: Proposed partial assignment of 400 acre-feet of the Shasta County Water Agency's CVP water supply to the Shasta Community Services District for M&I use. Completed December 8, 2023.

26. Solano County Water Agency, Solano Project, California: Renewal of water service and OM&R contracts. Completed January 15, 2024.

28. Napa County Flood Control and Water Conservation District, Solano Project, California: Renewal of long-term water service contract for up to 1,500 acre-feet from Lake Berryessa. Completed January 16, 2024.

Christopher Beardsley,
Director, Mission Assurance and Protection Organization.

[FR Doc. 2024-12229 Filed 6-3-24; 8:45 am]

BILLING CODE 4332-90-P